SOCIAL SECURITY ADMINISTRATION

[Docket No: SSA-2024-0007]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections, and one new collection for OMB-approval.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA, Fax: 202-395-6974.

(SSA) Social Security Administration, OLCA, Attn: Reports Clearance Director, Mail Stop 3253 Altmeyer, 6401 Security Blvd., Baltimore, MD 21235, Fax: 833-410-1631, Email address: OR.Reports.Clearance@ssa.gov.

Or you may submit your comments online through https://www.reginfo.gov/public/do/PRAmain by clicking on Currently under Review—Open for Public Comments and choosing to click on one of SSA's published items. Please reference Docket ID Number [SSA-2024-0007] in your submitted response.

I. The information collection below is pending at SSA. SSA will submit it to OMB within 60 days from the date of this notice. To be sure we consider your comments, we must receive them no later than May 13, 2024. Individuals can obtain copies of the collection instruments by writing to the above email address.

1. Request for Waiver of Overpayment Recovery and Request for Change in Overpayment Recovery Rate—20 CFR 404.502, 404.506-404.512, 416.550-416.558, 416.570-416.571—0960-0037. When Social Security beneficiaries and Supplemental Security Income (SSI) recipients receive an overpayment, they must return the extra money. These beneficiaries and recipients can use Form SSA-632-BK, Request for Waiver of Overpayment Recovery, to request a waiver from repaying their overpayment. Beneficiaries and recipients can also use Form SSA-634, Request for Change in Overpayment Recovery, to request a change to the monthly recovery rate of their overpayment. The respondents must provide financial information to help the agency determine how much the overpaid person can afford to repay each month. The respondents are individuals who are overpaid Social Security or SSI payments who are requesting: (1) a waiver of recovery of an overpayment, or (2) a lesser rate of withholding.

The Social Security Administration (SSA) is requesting public comments on this information collection. We encourage members of the public to provide their feedback and comments on the following matters outlined in the notice:

a. How can SSA most effectively ask questions related to determining whether or not a respondent is “without fault” in a manner that is minimally burdensome? Specifically, we are soliciting feedback on replacing the free-form response option, “Tell us what you know about why the overpayment may have happened” with a set of structured response options intended to reflect common reasons related to a failure to timely report a change to the agency. SSA is seeking comments on adding the following response options for which the respondent would be able to pick the choice that fits best:

• I did not know that I needed to report the change that SSA says caused the overpayment.

• I did not know about the change that SSA says caused the overpayment.

• I did not believe it was a significant enough change to report.

• I knew that I was supposed to report the change but chose not to report it.

• I thought I reported the change, or I tried to report the change but was unable to.

• I do not believe SSA is correct that there was a change.

• I forgot to report the change.

• I don't know.

• Other (this option would allow for a fill-in text box to include the reason).

b. Currently, Question #2, part 2 of the SSA-632 asks for the reason for requesting an overpayment waiver through a write-in text box. Please comment on other ways for us to request this information.

c. How can SSA revise the SSA-632, associated notice, or agency business processes to most effectively create a minimally burdensome collection of the questions we currently ask on the form?

d. How can SSA revise the form, associated notice, or agency business processes to most effectively minimize the burdensome collection requirements for individuals who have already pursued an appeal in good faith, but still have an overpayment as the result of receiving benefits under the statutory benefits continuation policy?

e. Please provide other suggestions for improving the design or communication on the form or associated notices to reduce burden on respondents.

f. Should SSA provide a mechanism on the form to allow for respondents to jointly request a reconsideration and a waiver on the same form?

g. Are there less burdensome ways SSA can ask respondents about the expenses they incur, or are there alternative ways for us to ask whether or not a claimant uses their income for ordinary and necessary living expenses?

h. Should SSA require documentation for expenses when an individual's alleged expenses are not unusually high?

i. In your experience, are there particular payment rules that, are particularly difficult to comply with or understand, resulting in overpayments?

j. Does SSA's burden estimate of 60 minutes accurately reflect the beginning-to-end time burden associated with this form? As stated in our documentation, the current time burden may include reviewing and understanding relevant notices; reading and understanding instructions; tracking down records and documentation; filling out the form; consulting with any third parties to help navigate form requirements (to include time spent by third-parties separate from the respondent's time spent); and any travel associated with the collection.

Your input on these items is valuable to us as we strive to improve our processes and better serve the public. In addition, we encourage you to comment on any other aspects of this information collection.

Type of Request: Revision of an OMB-approved information collection.

Modality of completion | Number of respondents | Frequency of response | Average burden per response (minutes) | Estimated total annual burden (hours) | Average theoretical hourly cost amount (dollars) * | Average wait time in field office or for teleservice centers (minutes) ** | Total annual opportunity cost (dollars) ***
SSA-632—Request for Waiver of Overpayment Recovery (If completing entire paper form, including the AFI authorization) | 400,000 | 1 | 60 | 400,000 | * $12.81 | ** 21 | *** $6,917,400
SSA-634—Request for Change in Overpayment Recovery Rate (Completing paper form) | 100,000 | 1 | 45 | 75,000 | * 12.81 | ** 21 | *** 1,409,100
Totals | 500,000 |  |  | 475,000 |  |  | *** 8,326,500
* We based this figure on the average DI payments based on SSA's current FY 2023 data (https://www.ssa.gov/legislation/2023factsheet.pdf).
** We based this figure on averaging both the average FY 2023 wait times for field offices and teleservice centers, based on SSA's current management information data.
*** This figure does not represent actual costs that SSA is imposing on recipients of Social Security payments to complete this application; rather, these are theoretical opportunity costs for the additional time respondents will spend to complete the application. There is no actual charge to respondents to complete the application.

2. Development of Participation in a Vocational Rehabilitation or Similar Program—20 CFR 404.316(c), 404.337(c), 404.352(d), 404.1586(g), 404.1596, 404.1597(a), 404.327, 404.328, 416.1321(d), 416.1331(a)-(b), and 416.1338, 416.1402—0960-0282. State Disability Determination Services (DDS) determine if Social Security disability payment recipients whose disability ceased and who participate in vocational rehabilitation programs may continue to receive disability payments. To do this, DDSs needs information about the recipients, the types of program participation, and the services they receive under the rehabilitation program. SSA uses Form SSA-4290 to collect this information. The respondents are State employment networks, vocational rehabilitation agencies, or other providers of educational or job training services.

Type of Request: Revision of an OMB-approved information collection.

Modality of completion | Number of respondents | Frequency of response | Average burden per response (minutes) | Estimated total annual burden (hours) | Average theoretical hourly cost amount (dollars) * | Average wait time in field office or for teleservice centers (minutes) ** | Total annual opportunity cost (dollars) ***
SSA-4290-F5 (By mail) | 2,400 | 1 | 40 | 1,600 | * $18.52 | ** N/A | *** $30,372.80
SSA-4290-F5 (Telephone) | 600 | 1 | 30 | 300 | * 18.52 | ** N/A | *** 5,741.20
Totals | 3,000 |  |  | 1,900 |  |  | *** 36,114.00
* We based this figure on average Social and Human Service Assistant's hourly salary, as reported by Bureau of Labor Statistics.
** This figure does not represent actual costs that SSA is imposing on recipients of Social Security payments to complete this application; rather, these are theoretical opportunity costs for the additional time respondents will spend to complete the application. There is no actual charge to respondents to complete the application.

3. Application to Collect a Fee for Payee Services—20 CFR 404.2040a & 416.640a—0960-0719. Sections 205(j) and 1631(a) of the Act allow SSA to authorize certain organizational representative payees to collect a fee for providing payee services. Before an organization may collect this fee, they complete and submit Form SSA-445. SSA uses the information to determine whether to authorize or deny permission to collect fees for payee services. The respondents are private sector businesses, or State and local government offices, applying to become a fee-for-service organizational representative payee.

Type of Request: Revision of an OMB-approved information collection.

Modality of completion | Number of respondents | Frequency of response | Average burden per response (minutes) | Estimated total annual burden (hours) | Average theoretical hourly cost amount (dollars) * | Total annual opportunity cost (dollars) **
Private sector business | 80 | 1 | 13 | 17 | * $17.41 | ** $296
State/local government offices | 10 | 1 | 10 | 2 | * 17.41 | ** 35
Totals | 90 |  |  | 19 |  | ** 331
* We based these figures on average Personal Care and Service Occupations hourly wages, as reported by Bureau of Labor Statistics data (https://www.bls.gov/oes/current/oes390000.htm).
** This figure does not represent actual costs that SSA is imposing on recipients of Social Security payments to complete this application; rather, these are theoretical opportunity costs for the additional time respondents will spend to complete the application. There is no actual charge to respondents to complete the application.

4. Screen Pop—20 CFR 401.45—0960-0790. Section 205(a) of the Social Security Act requires SSA to verify the identity of individuals who request a record or information pertaining to themselves, and to establish procedures for disclosing personal information. SSA established Screen Pop, an automated telephone process, to speed up verification for such individuals. Accessing Screen Pop, callers enter their Social Security number (SSN) using their telephone keypad or speech technology prior to speaking with a National 800 Number Network (N8NN) agent. The automated Screen Pop application collects the SSN and routes it to the “Start New Call” Customer Help and Information (CHIP) screen. Functionality for the Screen Pop application ends once the SSN connects to the CHIP screen and the SSN routes to the agent's screen. When the call connects to the N8NN agent, the agent can use the SSN to access the caller's record as needed. The respondents for this collection are individuals who contact SSA's N8NN to speak with an agent.

Type of Request: Revision of an OMB-approved information collection.

Modality of completion | Number of respondents | Frequency of response | Average burden per response (minutes) | Estimated total annual burden (hours) | Average theoretical hourly cost amount (dollars) * | Average wait time for teleservice centers (minutes) ** | Total annual opportunity cost (dollars) ***
Screen Pop | 51,933,760 | 1 | 1 | 865,563 | * $29.76 | ** 17 | *** $463,664,609
* We based this figure on average U.S. worker's hourly wages, as reported by Bureau of Labor Statistics data (https://www.bls.gov/oes/current/oes_nat.htm#00-00000).
** We based this figure on the average FY 2023 wait times for teleservice centers, based on SSA's current management information data.
*** This figure does not represent actual costs that SSA is imposing on recipients of Social Security payments to complete this application; rather, these are theoretical opportunity costs for the additional time respondents will spend to complete the application. There is no actual charge to respondents to complete.

5. Electronic Consent Based Social Security Number Verification—20 CFR 400.100—0960-0817. The electronic Consent Based Social Security Number Verification (eCBSV) is a fee-based SSN verification service which allows permitted entities (a financial institution as defined by Section 509 of the Gramm-Leach-Bliley Act. 42 U.S.C. 405b(b)(4), Public Law 115-174, Title II, 215(b)(4), or service provider, subsidiary, affiliate, agent, subcontractor, or assignee of a financial institution), to verify that an individual's name, date of birth (DOB), and SSN match our records based on the SSN holder's signed, including electronic consent in connection with a credit transaction or any circumstance described in section 604 of the Fair Credit Reporting Act (15 U.S.C. 1681b).

Background

SSA established the eCBSV service in response to section 215 of the Economic Growth, Regulatory Relief, and Consumer Protection Act of 2018 (Banking Bill), Public Law 115-174. Permitted entities are able to submit the SSN, name, and DOB of the number holder in connection with a credit transaction, or any circumstances described in Section 604 of the Fair Credit Reporting Act to SSA for verification via an application programming interface. eCBSV allows SSA to verify permitted entities who submit SSN, name, and DOB Matches, or does not match the data contained in SSA's records. After obtaining number holders' consents, a permitted entity submits the names, DOBs, and SSNs of number holders to the eCBSV service. SSA matches the information against our Master File, using SSN, name, and DOB. The eCBSV service responds in real time with a match, or no match indicator (and an indicator if our records show that the number holder died). SSA does not provide specific information on what data elements did not match, nor does SSA provide any SSNs or other identifiable information. The verification does not authenticate the identity of the number holders or conclusively prove the number holders we verify are who they are claiming to be.

Consent Requirements

Under the eCBSV process, the permitted entities does not submit the number holder's consent forms to SSA. SSA requires each permitted entity to retain a valid consent for each SSN verification request submitted for a period of 5 years. SSA permits the permitted entities to retain the consent in an electronic format, and SSA requires a wet or electronic signature on the consent. Permitted entities may request verification of a number holder's SSN on behalf of a financial institution pursuant to the terms of the Banking Bill, the user agreement between SSA and the PE, and the SSN Holder's consent. The permitted entity ensures the financial institution agrees to the terms in the user agreement to only use the SSN verification for the purpose stated in the consent, and prohibits public entities from further using or disclosing the SSN verification. This relationship is subject to the terms in the user agreement between SSA and the PE.

Compliance Review

SSA requires each permitted entity to undergo compliance reviews which are conducted by an SSA approved certified public accountant (CPA). The compliance reviews ensure the permitted entities meet all terms and conditions of the user agreement, including obtaining valid consent from number holders. The permitted entities pays all compliance review costs through the eCBSV fees. In general, SSA requests annual reviews with additional reviews as necessary. The CPA follows review standards established by the American Institute of Certified Public Accountants and contained in the Generally Accepted Government Auditing Standards (GAGAS).

Initially, SSA only allowed 10 permitted entities access to use the service, with an estimated 307,000,000 requests. Now, with the open enrollment, eCBSV is available to all interested permitted entities, as defined in Section 215 of the Banking Bill with an estimated annual 77,000,000 requests. The respondents are permitted entities; members of the public who consent to SSN verifications; and CPAs who provide compliance review services.

Type of Request: Revision of an OMB-approved information collection.

Requirement | Number of respondents | Frequency of response | Average burden per response (minutes) | Estimated total annual burden (hours) | Average theoretical hourly cost amount (dollars) * | Total annual opportunity cost (dollars) **
(a) People whose SSNs SSA will verify—Reading and Signing | 76,000,000 | 1 | 3 | 3,800,000 | * $12.81 | ** $48,678,000
(a) Sending in the verification request, calling our system, getting a response | 76,000,000 | 1 | 1 | 1,266,667 | * 41.39 | ** 52,427,347
(c) CPA Compliance Review and Report *** | 21 | 1 | 4,800 | 1,680 | * 41.70 | ** 70,056
Totals | 152,000,021 |  |  | 5,068,347 |  | ** 101,175,403
* We based these figures on average Business and Financial operations occupations (https://www.bls.gov/oes/current/oes130000.htm), and Accountants and Auditors hourly salaries (https://www.bls.gov/oes/current/oes132011.htm), as reported by Bureau of Labor Statistics data, and average DI payments, as reported in SSA's disability insurance payment data (https://www.ssa.gov/legislation/2023factsheet.pdf).
** This figure does not represent actual costs that SSA is imposing on recipients of Social Security payments to complete this application; rather, these are theoretical opportunity costs for the additional time respondents will spend to complete the application. There is no actual charge to respondents to complete the application.
*** The enrollment process occurs automatically through the eCBSV Customer Connection, and entails providing consent for SSA to verify the EIN; electronically signing the eCBSV User Agreement, and the permitted entities certification; selecting their annual tier level; and linking to pay.gov to make payment for services.
**** There will be one CPA firm (an SSA-approved contractor) to conduct compliance reviews and prepare written reports of findings on the 113 permitted entities.

Cost Burden

The public cost burden depends on the number of permitted entities using the service and the annual transaction volume. SSA based the current tier fee schedule below on 20 participating public entities in fiscal year (FY) 2023 submitting an anticipated annual volume of 65 million transactions. For FY 2024, we are maintaining the current tier structure, based our analysis, which estimated 20 participating public entities with an anticipated annual volume of 52 million. Since our analysis and initial estimate, one permitted entity noted the potential for a significant increase in volume in FY 2024. The total cost for developing and operating the service is $62 million through FY 2023. Of this amount, $37 million remains unrecovered/unreimbursed. The current subscription tier structure and associated fees intend to recover these costs over a four-year period, assuming projected enrollments and transaction volumes meet these projections. SSA uses the fee to allocate for forecasted systems and operational expenses; agency oversight; and overhead necessary to sustain the service.

eCBSV Tier Fee Schedule
Tier | Annual transaction threshold | Annual fee
1 | Up to 10,000 (1-10,000) | $7,000
2 | Up to 200,000 (10,001-200,000) | 130,000
3 | Up to 1 million (200,001-1 million) | 630,000
4 | Up to 2.5 million (1,000,001-2.5 million) | 1,500,000
5 | Up to 5 million (2,500,001-5 million) | 3,000,000
6 | Up to 10 million (5,000,001-10 million) | 4,500,000
7 | Up to 15 million (10,000,001-15 million) | 5,000,000
8 | Up to 20 million (15,000,001-20 million) | 6,250,000
9 | Up to 25 million (20,000,001-25 million) | 7,250,000
10 | Up to 75 million (25,000,001-200 million) | 8,250,000

SSA calculates fees based on forecasted systems and operational expenses, agency oversight, overhead, and Certified Public Accountant audit contract costs.

Section 215(h)(1)(B) of the Banking Bill requires that the Commissioner shall “periodically adjust” the price paid by users to ensure that amounts collected are sufficient to fully offset the costs of administering the eCBSV system. SSA will monitor costs incurred to provide eCBSV services on at least and annual basis, and will revise the tier fee schedule accordingly. SSA will notify permitted entities of the tier fee schedule in effect at the renewal of the eCBSV user agreements; when a permitted entity begins a new 365-day agreement period; and via notice in the Federal Register. SSA will govern permitted entities renewals by the tier in effect at the time of renewal.

II. SSA submitted the information collections below to OMB for clearance. Your comments regarding these information collections would be most useful if OMB and SSA receive them 30 days from the date of this publication. To be sure we consider your comments, we must receive them no later than April 12, 2024. Individuals can obtain copies of these OMB clearance packages by writing to the OR.Reports.Clearance@ssa.gov.

Employee Work Activity Questionnaire—20 CFR 404.1574(a)(1)-(3)—0960-0483. SSDI beneficiaries and SSI recipients qualify for payments when a verified physical or mental impairment prevents them from working. If disability claimants attempt to return to work after receiving payments, but are unable to continue working, they submit Form SSA-3033, Employee Work Activity Questionnaire, so SSA can evaluate their work attempt. In addition, SSA uses this form to evaluate unsuccessful subsidy work and determine applicants' continuing eligibility for disability payments. The respondents are employers of SSDI beneficiaries and SSI recipients who unsuccessfully attempted to return to work.

Type of Request: Revision of an OMB-approved information collection.

Modality of completion | Number of respondents | Frequency of response | Average burden per response (minutes) | Estimated total annual burden (hours) | Average theoretical hourly cost amount (dollars) * | Average wait time for teleservice centers (minutes) ** | Total annual opportunity cost (dollars) ***
SSA-3033 Phone | 5,000 | 1 | 15 | 1,250 | $59.07 | 19 | *** $167,345
SSA-3033 Returned via mail | 10,000 | 1 | 15 | 2,500 | 59.07 |  | *** 147,675
Totals | 15,000 |  |  | 3,750 |  |  | 315,020
* We based this figure on average general and operations manager's hourly salary, as reported by Bureau of Labor Statistics data (https://www.bls.gov/oes/current/oes111021.htm).
** We based this figure on the average FY 2023 wait times for field offices, based on SSA's current management information data.
*** This figure does not represent actual costs that SSA is imposing on recipients of Social Security payments to complete this application; rather, these are theoretical opportunity costs for the additional time respondents will spend to complete the application. There is no actual charge to respondents to complete the application.

Dated: March 8, 2024.
Naomi Sipple,
Reports Clearance Officer, Social Security Administration.

[FR Doc. 2024-05296 Filed 3-12-24; 8:45 am]

BILLING CODE 4191-02-P